CONSUMER PRODUCT SAFETY COMMISSION

Meeting

TIME AND DATE: Tuesday, October 8, 2002, 2 p.m.

LOCATION: Room 410, East West Towers, 4330 East West Highway, Bethesda, Maryland.

STATUS: Closed to the Public—Pursuant to 5 U.S.C. 552b(f)(1) and 16 CFR 1013.4(b)(3)(7)(9) and (10) and submitted to the Federal Register pursuant to 5 U.S.C. 552b(e)(3).

Matter to be Considered:

Compliance Status Report

The staff will brief the Commission on the status of various compliance matters.

For a recorded message containing the latest agenda information, call (301) 504-0709.

CONTACT PERSON FOR ADDITIONAL INFORMATION: Todd A. Stevenson, Office of the Secretary, 4330 East West Highway, Bethesda, MD 20207, (301) 504-0800.

Dated: September 25, 2002.
Todd A. Stevenson,
Secretary.

[FR Doc. 02-24814 Filed 9-25-02; 3:49 pm]

BILLING CODE 6355-01-M